DEPARTMENT OF THE INTERIOR

Bureau of Land Management

[AK964-1410-HY-P; AA-70146, AA84417]

Alaska Native Claims Selection

AGENCY: Bureau of Land Management, DOI.

ACTION: Notice of decision approving lands for conveyance.

SUMMARY: As required by 43 CFR 2650.7(d), notice is hereby given that two appealable decisions approving lands for conveyance pursuant to the Alaska Native Claims Settlement Act will be issued to Calista Corporation. The lands are located in Tps. 14 and 15 S., R. 75 W., Seward Meridian, in the vicinity of Platinum Alaska, and Tps. 11 and 12 N., Rs. 59 and 60 W., Seward Meridian, in the vicinity of Nyac, Alaska, aggregating approximately 14,244 acres. Notice of the decisions will also be published four times in the Tundra Drums.

DATES: The time limits for filing an appeal are:

1. Any party claiming a property interest which is adversely affected by the decision shall have until April 7, 2006 to file an appeal.

2. Parties receiving service of the decision by certified mail shall have 30 days from the date of receipt to file an appeal.

Parties who do not file an appeal in accordance with the requirements of 43 CFR part 4, subpart E, shall be deemed to have waived their rights.

ADDRESSES: Copies of the decisions may be obtained from: Bureau of Land Management, Alaska State Office, 222 West Seventh Avenue, #13, Anchorage, Alaska 99513-7599.

FOR FURTHER INFORMATION CONTACT: KJ Mushovic, by phone at (907) 271-3153, or by e-mail at K_J_Mushovic@ak.blm.gov. Persons who use a telecommunication device (TTD) may call the Federal Information Relay Service (FIRS) at 1-800-877-8330, 24 hours a day, seven days a week, to contact Mrs. Mushovic.

KJ Mushovic,
Land Law Examiner, Branch of Adjudication II.

[FR Doc. E6-3239 Filed 3-7-06; 8:45 am]

BILLING CODE 4310-$$-P